ENVIRONMENTAL PROTECTION AGENCY

40 CFR Part 370

[EPA-HQ-SFUND-1998-0002; FRL 8785-3]

RIN 2050-AE17

Hazardous Chemical Reporting; Tier II Inventory Information

AGENCY: Environmental Protection Agency (EPA).

ACTION: Final rule.

SUMMARY: EPA issued a final rule in the Federal Register on November 3, 2008, amending the Emergency Planning and Emergency Release Notification and Hazardous Chemical Reporting regulations, as well as re-writing the regulations in a plain language format. This document is being issued to correct a technical error to the regulatory text in Hazardous Chemical Reporting, specifically in the Tier II inventory information section.

DATES: This final rule is effective March 26, 2009.

ADDRESSES: EPA has established a docket for this action under Docket ID No. EPA-SFUND-1998-0002. All documents in the docket are listed on the http://www.regulations.gov Web site. Although listed in the index, some information is not publicly available, e.g., Confidential Business Information (CBI) or other information whose disclosure is restricted by statute. Certain other material, such as copyrighted material, is not placed on the Internet and will be publicly available only in hard copy form. Publicly available docket materials are available either electronically through http://www.regulations.gov or in hard copy at the Superfund Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Superfund Docket is (202) 566-0276.

FOR FURTHER INFORMATION CONTACT: Sicy Jacob, Office of Emergency Management (OEM), Mail Code 5104A, Environmental Protection Agency, 1200 Pennsylvania Avenue, NW., Washington DC 20004; telephone number: (202) 564-8019; fax number: (202) 564-2620; e-mail address: jacob.sicy@epa.gov. Also contact the Superfund, TRI, EPCRA, RMP and Oil Information Center at (800) 424-9346 or (703) 412-9810 (in the Washington, DC metropolitan area). The Telecommunications Device for the Deaf (TDD) number is (800) 553-7672 or (703) 412-3323 (in the Washington, DC metropolitan area). You may wish to visit the OEM Internet site at http://www.epa.gov/emergencies.

SUPPLEMENTARY INFORMATION:

I. General Information

A. Does this Action Apply to Me?

The Agency included in the November 3, 2008 final rule who may be potentially affected by this action. If you have questions regarding the applicability of this action to a particular entity, consult the person listed under FOR FURTHER INFORMATION CONTACT.

B. How can I Access Electronic Copies of this Document and Other Related Information?

In addition to using regulations.gov, you may access this Federal Register document electronically through the EPA Internet under the “Federal Register” listings at http://www.epa.gov/fedrgstr.

II. What Does This Correction Do?

This document is being issued to correct a technical error in the regulatory text published in the final rule on November 3, 2008 (723 FR 65452), in 40 CFR 370.42(i)(8) and (9). Specifically, the November 2008 final rule amended 40 CFR parts 355 and 370, as well as rewrote the regulations in a plain language format; the final rule is based on a June 8, 1998 (63 FR 31268) proposed rule in which EPA proposed several revisions to parts 355 and 370, as well as proposed to reorganize and rewrite the regulations in a plain language format. Prior to the November 2008 final rule, the instructions to the Tier II inventory form in 40 CFR 370 allowed facilities to include optional attachments with their inventory form. These optional items include: a site plan with site coordinates, a list of site coordinate abbreviations that correspond to buildings, lots, etc. or a description of dikes and other safeguard measures for storage locations throughout the facility. Although the Agency did not propose any revisions to these specific instructions in the June 1998 proposed rule, the Agency made an error in the November 2008 final rule, while reorganizing the instructions to the Tier II inventory form. The Agency inadvertently listed one of the optional items, description of dikes and other safeguard measures, as a required item in 40 CFR 370.42(i)(9).

This document corrects this error by deleting the phrase, “a description of dikes and other safeguard measures for each location listed” from 40 CFR 370.42(i)(9), and re-inserting this phrase into 40 CFR 370.42(i)(8), which has also been re-formatted to provide greater clarity.

III. Authority Under the Administrative Procedure Act

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical correction final without prior proposal and opportunity for comment, because this final rule corrects a technical error, adds clarity, and does not otherwise change the original requirements of the final rule. This section of the regulations was not proposed for any revisions in the June 8, 1998 proposed rule; it was only proposed for a rewrite in a plain language format. EPA finds that this constitutes good cause under 5 U.S.C. 553(b)(3)(B).

IV. Do Any of the Statutory and Executive Order Reviews Apply to This Action?

This final rule corrects a technical error and does not otherwise change the requirements in the final rule. As a technical correction, this action is not subject to the statutory and Executive Order review requirements. For information about the statutory and Executive Order review requirements as they related to the final rule, see Section III in the Federal Register of November 3, 2008.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to the publication of this final rule in the Federal Register. This final rule is not a “major rule” as defined by 5 U.S.C. 804(2).

List of Subjects in 40 CFR Part 370

Environmental protection, Chemicals, Hazardous substances, Penalties, Reporting and recordkeeping requirements, Superfund.

Dated: March 16, 2009.
Lisa P. Jackson,
Administrator.

For the reasons set out in the preamble, title 40, chapter 1 of the Code of Federal Regulations is amended as follows:

PART 370—[AMENDED]

1. The authority citation for part 370 continues to read as follows:

Authority: Sections 302, 311, 312, 322, 324, 325, 327, 328, and 329 of the Emergency Planning and Community Right-To-Know Act of 1986 (EPCRA) (Pub. L. 99-499, 100 Stat. 1613, 42 U.S.C. 11002, 11021, 11022, 11042, 11044, 11045, 11047, 11048, and 11049).

2. In § 370.42 revise paragraphs (i)(8) and (9) to read as follows:

§ 370.42 What is Tier II Inventory Information?

* * * * *

(i) * * *

(8) (i) Provide a brief description of the precise location of the hazardous chemical at your facility. You may also attach one of the following with your Tier II inventory form.

(A) A site plan with site coordinates indicated for buildings, lots, areas, etc. throughout your facility.

(B) A list of site coordinate abbreviations that correspond to buildings, lots, areas, etc. throughout your facility.

(C) A description of dikes and other safeguard measures for storage locations throughout your facility.

(ii) Under EPCRA section 324, you may choose to withhold from disclosure to the public the location information for a specific chemical. If you choose to withhold the location information from disclosure to the public, you must clearly indicate that the information is “confidential.” You must provide the confidential location information on a separate sheet from the other Tier II information (which will be disclosed to the public), and attach the Confidential Location Information Sheet to the other Tier II information. Indicate any attachments you are including.

(9) Provide a brief description of the manner of storage of the hazardous chemical, including container type, temperature and pressure for each location listed. You must use codes that correspond to different storage types and temperature and pressure conditions. The storage codes are in § 370.43. If the specific location for which you are reporting storage conditions is a “confidential” location, then you must report the storage conditions on a separate Confidential Location Information Sheet.

[FR Doc. E9-6264 Filed 3-25-09; 8:45 am]

BILLING CODE 6560-50-P